FEDERAL COMMUNICATIONS COMMISSION

Notice of Public Information Collection(s) Being Reviewed by the Federal Communications Commission, Comments Requested

July 20, 2004.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 27, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0833.

Title: Implementation of Section 255 of the Telecommunications Act of 1996: Complaint Filings/Designation of Agents.

Form Number: N/A.

Type of Review: Extension of a currently approved collection.

Respondents: Individuals or household; Business or other for-profit entities; Not-for-profit institutions, Federal government; and State, local or tribal government.

Number of Respondents: 8,677 respondents (multiple responses).

Estimated Time per Response: 0.50-5 hours.

Frequency of Response: Recordkeeping; On occasion and one time reporting requirements; Third party disclosure requirement.

Total Annual Burden: 12,338 hours.

Total Annual Cost: $720,000.

Privacy Impact Assessment: Yes.

Needs and Uses: This information collection includes rules governing the filing of complaints as part of the implementation of Section 255 of the Telecommunications Act of 1996, which seeks to ensure that telecommunications equipment and services are available to all Americans, including those individuals with disabilities. In particular, telecommunications service providers and equipment manufacturers are asked for a one-time designation of an agent who will receive and promptly handle voluntary consumer complaints of accessibility concerns. As with any complaint procedure, a certain number of regulatory and information burdens are necessary to ensure compliance with FCC rules.

OMB Control Number: 3060-0874.

Title: Consumer Complaint Form, FCC Form 475.

Form Number: FCC Form 475.

Type of Review: Extension of a currently approved collection

Respondents: Individuals or household; business or other for-profit entities; not-for-profit institutions; Federal government; and state, local or tribal government.

Number of Respondents: 58,772.

Estimated Time per Response: 0.50 hours.

Frequency of Response: On occasion reporting requirement; Third party disclosure.

Total Annual Burden: 29,386 hours.

Total Annual Cost: None.

Privacy Impact Assessment: Yes.

Needs and Uses: FCC Form 475 allows the Commission to collect detailed data from consumers of the practices of common carriers. This information contained in the collection will allow consumers to provide the Commission with the relevant information required to help consumers develop a concise statement outlining the issue in dispute. The Commission uses the information to assist in resolving informal complaints and to collect data required to assess the practices of common carriers.

Federal Communications Commission.
William F. Caton,
Deputy Secretary.

[FR Doc. 04-17248 Filed 7-28-04; 8:45 am]

BILLING CODE 6712-01-P